DEPARTMENT OF ENERGY

Federal Energy Regulatory Commission

[Docket No. EC05-89-000, et al.]

Coral Power, LLC, et al.; Electric Rate and Corporate Filings

June 1, 2005.

The following filings have been made with the Commission. The filings are listed in ascending order within each docket classification.

1. Coral Power, L.L.C.; Coral Energy Management, LLC; Baconton Power LLC; Colorado Green Holdings, LLC; Cabazon Wind Partners, LLC; Rock River I, LLC; Whitewater Hill Wind Partners, LLC; Llano Estacado Wind, LP; Northern Iowa Windpower, LLC; Shell Energy Services Company, L.L.C.

[Docket No. EC05-89-000]

Take notice that on May 27, 2005, Coral Power, L.L.C. (Coral Power), Coral Energy Management, LLC (Coral EM), Baconton Power LLC (Baconton), Colorado Green Holdings, LLC (Colorado Green), Cabazon Wind Partners, LLC (Cabazon), Rock River I, LLC (Rock River), Whitewater Hill Wind Partners, LLC (Whitewater), Llano Estacado Wind, LP (Llano Estacado), Northern Iowa Windpower LLC (NIW), and Shell Energy Services Company, L.L.C. (SES) (collectively, Applicants) submitted an application pursuant to section 203 of the Federal Power Act for authorization of a disposition of jurisdictional facilities related to the corporate reorganization of Royal Dutch Petroleum Company (N.V. Koninklijke Nederlandsche Petroleum Maatschappij), a Netherlands company, and The “Shell” Transport & Trading Company, p.l.c., a United Kingdom company (together, Shell Parents), which hold indirect upstream ownership interests in Applicants.

As a result of the proposed reorganization, the Shell Parents will become wholly-owned direct subsidiaries of a new parent company, which, in turn, will be owned by the existing shareholders of the Shell Parents. Coral Power, Coral EM, and SES are power marketers that do not own any electric generation, transmission, or distribution facilities. Baconton, Colorado Green, Cabazon, Rock River, Whitewater, Llano Estacado, and NIW are exempt wholesale generators that own generating facilities located in Georgia, Colorado, California, Wyoming, California, Texas, and Iowa, respectively.

Comment Date: 5 p.m. Eastern Time on June 17, 2005

2. Shane's Wind Machine LLC

[Docket No. EG05-69-000]

Take notice that on May 27, 2005, Shane's Wind Machine LLC, tendered for filing an Application for Determination of Exempt Wholesale Generator Status.

Comment Date: June 17, 2005.

Standard Paragraph

Any person desiring to intervene or to protest in any of the above proceedings must file in accordance with Rules 211 and 214 of the Commission's Rules of Practice and Procedure (19 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to long on and submit the intervention or protests.

Persons unable to file electronically should submit an original and 14 copies of the intervention or protests to the Federal Energy Regulatory Commission, 888 First Street, NE., Washington, DC 20426.

The filings in the above proceedings are accessible in the Commission's eLibrary system by clicking on the appropriate link in the above list. They are also available to review in the Commission's Public Reference Room in Washington, DC. There is an eSubscription link on the Web site that enables subscribers to receive email notification when a document is added to a subscribed docket(s). For assistance with any FERC Online service, please e-mail FERCOnlineSupport@ferc.gov or call (866) 208-3676 (toll free). For TYY, call (202) 502-8659.

Linda Mitry,
Deputy Secretary.

[FR Doc. E5-2955 Filed 6-8-05; 8:45 am]

BILLING CODE 6717-01-P